DEPARTMENT OF AGRICULTURE

Animal and Plant Health Inspection Service

[Docket No. 02-023-2]

Risk Management Analysis for the Importation of Clementines From Spain

AGENCY: Animal and Plant Health Inspection Service, USDA.

ACTION: Notice of reopening and extension of comment period.

SUMMARY: We are reopening and extending the comment period for a risk management analysis prepared by the Animal and Plant Health Inspection Service relative to a proposed rule currently under consideration that would allow the importation of clementines from Spain to resume. This action will allow interested persons additional time to prepare and submit comments.

DATES: We will consider all comments we receive on the risk management analysis that are postmarked, delivered, or e-mailed by June 14, 2002.

ADDRESSES: You may submit comments by postal mail/commercial delivery or by e-mail. If you use postal mail/commercial delivery, please send four copies of your comment (an original and three copies) to: Docket No. 02-023-1, Regulatory Analysis and Development, PPD, APHIS, Station 3C71, 4700 River Road Unit 118, Riverdale, MD 20737-1238. Please state that your comment refers to Docket No. 02-023-1. If you use e-mail, address your comment to regulations@aphis.usda.gov. Your comment must be contained in the body of your message; do not send attached files. Please include your name and address in your message and “Docket No. 02-023-1” on the subject line.

You may read any comments that we receive on Docket No. 02-023-1 in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS rules, are available on the Internet at http://www.aphis.usda.gov/ppd/rad/webrepor.html.

FOR FURTHER INFORMATION CONTACT: Dr. Ron A. Sequeira, Center for Plant Health Science and Technology, PPQ, APHIS, 1017 Main Campus Drive, Suite 2500, Raleigh, NC 27606-5202; (919) 513-2663.

SUPPLEMENTARY INFORMATION:

Background

On April 16, 2002, we published in the Federal Register (67 FR 18578-18579, Docket No. 02-023-1) a notice advising the public that a risk management analysis has been prepared by the Animal and Plant Health Inspection Service relative to a proposed rule currently under consideration that would allow the importation of clementines from Spain to resume. In that notice, we stated that we were making the risk management analysis available to the public for review and comment.

Comments on the risk management analysis were required to be received on or before May 16, 2002. We are reopening and extending the comment period on Docket No. 02-023-1 until June 14, 2002. This action will allow interested persons additional time to prepare and submit comments. We will also consider all comments received between May 17, 2002 (the day after the close of the original comment period) and the date of this notice.

Authority: 7 U.S.C. 166, 450, 7701-7772; 21 U.S.C. 136 and 136a; 7 CFR 2.22, 2.80, and 371.3.

Done in Washington, DC, this 21st day of May 2002.
Peter Fernandez,
Acting Administrator, Animal and Plant Health Inspection Service.

[FR Doc. 02-13067 Filed 5-21-02; 12:05 pm]

BILLING CODE 3410-34-P